DEPARTMENT OF HOUSING AND URBAN DEVELOPMENT

[Docket No. FR-7070-N-19]

30-Day Notice of Proposed Information Collection: Capital Needs Assessment of Public Housing; OMB Control No.: 2528-New Collection

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: May 11, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, Reports Management Officer, Department of Housing and Urban Development, 451 7th Street SW, Washington, DC 20410; email Anna Guido at PaperworkReductionActOffice@hud.gov, telephone 202-402-5535 (this is not a toll-free number). HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for the information collection described in section A.

The Federal Register notice that solicited public comment on the information collection for a period of 60 days was published on September 7, 2022 at 87 FR 54709.

A. Overview of Information Collection

Title of Information Collection: Capital Needs Assessment of Public Housing.

OMB Approval Number: 2528-New; pending.

Type of Request: New collection.

Form Number: N/A.

Description of the need for the information and proposed use: The Office of Policy Development and Research at the U.S. Department of Housing and Urban Development (HUD) is proposing the collection of information for the Capital Needs Assessment of Public Housing.

Public housing serves the housing needs of low- and very-low-income households, including needy families, the elderly, and the disabled. In the United States, public housing is owned and managed by public housing authorities (PHAs), which are units of state and local government. Public housing is nonetheless heavily subsidized and regulated by HUD's Office of Public and Indian Housing through the Operating Fund, Capital Fund, and other means. The capital needs of public housing have a direct bearing on HUD's Capital Fund budget and its support to PHAs for using alternative means of financing to meet those needs.

The number of public housing developments and units in the United States and the number of PHAs that own and manage public housing developments and units have changed over time. According to the most recent HUD data, there are 2,780 PHAs that own and manage 940,330 units in 6,523 public housing developments.

The public housing Capital Fund provides funds for the capital and management activities of PHAs as authorized under section 9 of the Housing Act of 1937 (42 U.S.C. 1437g) (the Act). Capital needs are defined by section 9(d)(1) of the Act, as codified at 24 CFR part 905, with Section 200 listing eligible activities. These activities include, among others, the development, financing, and modernization of public housing, vacancy reduction, nonroutine maintenance, and planned code compliance. This work is intended to bring each PHA's projects up to applicable modernization and energy conservation standards.

This Federal Register Notice provides an opportunity to comment on the information collection for the capital needs assessment (CNA) of public housing.

After OMB approval of the Paperwork Reduction Act package, HUD and its contractor will administer a web-based survey to a sample of approximately 300 PHAs to collect data on their CNA estimates, their practices to arrive at those estimates, and their use of those estimates.

After analyzing the data from the first survey of PHAs, HUD and its contractor will administer a second web-based survey of another 500 PHAs. This survey will ask many of the same questions as the first survey. Both surveys will provide data that, when combined with HUD's other data sources, will be used to estimate the capital needs of public housing following an iterative and duplicable approach.

Both surveys also include questions about the processes that PHAs use to assess their capital needs. Based on responses to those questions, the study will assess PHAs' processes to see how they compare to in-person data collection methods used in previous CNAs and industry best practices.

The purpose of this assessment is to better understand if a non-inspection-based approach can yield reliable and valid results that are comparable to those in the past studies, if not better.

Information collection | Number of respondents | Frequency of response | Responses per annum | Burden hour per response | Annual burden hours | Hourly cost per response * | Annual cost
First PHA Survey | 300 | 1 | 300 | 0.75 | 225 | $38.18 | $8,590.50
Second PHA Survey | 500 | 1 | 500 | 0.75 | 375 | $38.18 | $14,317.50
Total | 800 | 1 | 800 | 1.5 | 600 | $76.36 | $22,908.00

B. Solicitation of Public Comment

This notice is soliciting comments from members of the public and affected parties concerning the collection of information described in section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. chapter 35.

Anna P. Guido,
Department Reports Management Officer, Office of Policy Development and Research, Chief Data Officer.

[FR Doc. 2023-07533 Filed 4-10-23; 8:45 am]

BILLING CODE 4210-67-P